DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0548.

Comments are invited on: (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Projects for Assistance in Transition From Homelessness (PATH) Program Annual Report (OMB No. 0930-0205)—Revision

SAMHSA awards grants each fiscal year to each state, the District of Columbia, the Commonwealth of Puerto Rico, the Virgin Islands, Guam, American Samoa, and the Commonwealth of the Northern Mariana Islands (hereafter referred to as “states”), from allotments authorized under the PATH program established by Public Law 101-645, 42 U.S.C. 290cc-21 et seq., the Stewart B. McKinney Homeless Assistance Amendments Act of 1990 [Section 521 et seq. of the Public Health Service (PHS) Act and the 21st Century Cures Act (Pub. L. 114-255), hereafter referred to as “the Act”]. Section 522 of the Act, specifies that states must expend their payments solely for making grants to political subdivisions of the state, and to non-profit private entities (including community-based veterans' organizations and other community organizations) for the purpose of providing services specified in the Act. Available funding is allotted in accordance with the formula provision of section 524 of the PHS Act.

This submission is for the revision to the approved PATH Annual Report Manual. Section 528 of the Act specifies, not later than January 31 of each fiscal year, a funded entity will “prepare and submit to the Secretary a report in such form and containing such information as the Secretary determines to be necessary for: (1) securing a record and a description of the purposes for which amounts received under Section 521 were expended during the preceding fiscal year and of the recipients of such amounts; and (2) determining whether such amounts were expended in accordance with the provisions of this part.”

The proposed revision to the PATH 2023 Annual Report Manual are as follows:

Homeless Management Information System (HMIS) Data Standards Updates

When needed, field response options and questions have been updated to align with the most recent version of the HMIS Data Standards.

In July 2022, HUD released updated HMIS programming specifications (Version 3.6) for the PATH Annual Report, which changed the instructions for counting contacts in questions 12a and 12b. HMIS vendors received these programming updates and HUD encouraged them to implement the changes by October 1, 2022. When providers run their PATH Annual Report in HMIS, it should reflect Version 3.6, including these most recent programming changes. In October 2022, SAMHSA launched a new PDX website for State Path Contacts (SPCs) and providers, who will use the site to enter provider-level data for their PATH Annual Report and progress reports. User guides were created to describe the features and functions of the new PDX site and provides guidance for reviewing and submitting PATH Annual Reports, setting up and reviewing progress reports, and accessing PATH resources. The requested revisions will not increase the overall burden.

The estimated annual burden for these reporting requirements is summarized in the table below.

Respondents | Number of respondents | Responses per respondent | Burden per response (hrs.) | Total burden
States | 56 | 1 | 15 | 840
Local provider agencies | 437 | 1 | 15 | 6,555
Total | 493 |  |  | 7,395

Send comments to Carlos Graham, SAMHSA Reports Clearance Officer, 5600 Fishers Lane, Room 15E57-A, Rockville, Maryland 20857, OR email a copy to carlos.graham@samhsa.hhs.gov. Written comments should be received by March 13, 2023.

Alicia Broadus,
Public Health Advisor.

[FR Doc. 2023-00202 Filed 1-9-23; 8:45 am]

BILLING CODE 4162-20-P